DEPARTMENT OF LABOR

Employment and Training Administration

[TA-W-74,466; TA-W-74,466J]

Hewlett Packard Company, Enterprise Business Division, Technical Services America, Global Parts Supply Chain Group, Including Leased Workers From Qflex, North America Logistics, and UPS, Headquartered in Palo Alto, CA, Teleworkers Across California and Workers On-Site in Roseville, CA; Hewlett Packard Company, Enterprise Business Division, Technical Services America, Global Parts Supply Chain Group, Including Leased Workers From Qflex, North America Logistics, and UPS, Teleworkers Across Maine; Amended Certification Regarding Eligibility To Apply for Worker Adjustment Assistance

In accordance with Section 223 of the Trade Act of 1974, as amended (“Act”), 19 U.S.C. 2273, the Department of Labor issued a Certification of Eligibility to Apply for Worker Adjustment Assistance on September 10, 2010, applicable to workers of Hewlett Packard Company, Enterprise Business Division, Technical Services America, Global Parts Supply Chain Group, including leased workers from QFlex, North America Logistics, and UPS, Palo Alto, California. The Department's Notice was published in the Federal Register on September 23, 2010 (75 FR 57982). The Notice was amended on November 12, 2010 to include teleworkers across many states. The Department's Notice of amended certification was published in the Federal Register November 23, 2010 (75 FR 71457-71458).

At the request of the State agency, the Department reviewed the certification for workers of the subject firm. The workers are engaged in employment related to the supply of design services and sales compensation operations for Hewlett Packard Company.

New findings show that worker separations occurred during the relevant time period involving employees of Hewlett Packard, Enterprise Business Division, Technical Services America, Global Parts Supply Chain Group, working off-site in Maine. These workers meet the criteria under Section 222(a) of the Act.

Based on these findings, the Department is amending this certification to include workers of the Palo Alto, California facility of the subject firm working off-site in Maine.

The intent of the Department's certification is to include all workers of the subject firm who were adversely affected by Hewlett Packard's decision to shift the supply of like or directly competitive services to foreign countries.

The amended notice, applicable to TA-W-74,466, is hereby issued as follows:

All workers of Hewlett Packard Company, Enterprise Business Division, Technical Services America, Global Parts Supply Chain Group, including leased workers from QFlex, North America Logistics, and UPS, Palo Alto, California, including teleworkers across California and workers on-site in Roseville, California (TA-W-74,466); teleworkers across Arizona (TA-W-74,466A); teleworkers across Florida (TA-W-74,466B); teleworkers across Massachusetts and workers on-site in Andover, Massachusetts (TA-W-74,466C); workers on-site in Minnetonka, Minnesota (TA-W-74,466D); teleworkers across New Hampshire (TA-W-74,466E); teleworkers across New York (TA-W-74,466F); workers on-site in Charlotte, North Carolina (TA-W-74,466G); teleworkers across Ohio (TA-W-74,466H); teleworkers across Texas and workers on-site in Houston, Texas (TA-W-74,466I); and teleworkers across Maine (TA-W-74,466J), who became totally or partially separated from employment on or after June 22, 2009, through September 10, 2012, and all workers in the group threatened with total or partial separation from employment on June 22, 2009, through September 10, 2012, are eligible to apply for adjustment assistance under Chapter 2 of Title II of the Trade Act of 1974, as amended.

Signed in Washington, DC, this 10th day of February, 2011.
Del Min Amy Chen,
Certifying Officer, Office of Trade Adjustment Assistance.

[FR Doc. 2011-4099 Filed 2-23-11; 8:45 am]

BILLING CODE 4510-FN-P